DEPARTMENT OF HEALTH AND HUMAN SERVICES

Notice of the Development of a Web-Based System Used To Request Meetings Regarding Medical Countermeasures to Naturally Occurring or Manmade Threats

AGENCY: Department of Health and Human Services, Office of the Secretary.

ACTION: Notice.

SUMMARY: The Department of Health and Human Services (HHS) is announcing the availability of a new Web-based system, MedicalCountermeasures.gov. MedicalCountermeasures.gov will enable external stakeholders to request meetings with personnel from the organizations that comprise the Public Health Emergency Medical Countermeasures Enterprise (PHEMCE) regarding medical countermeasures to threats to public health, either naturally occurring or manmade. The goal of these meetings is to provide an opportunity for stakeholders to share information regarding medical countermeasures. The system can be accessed from the Web site https://www.medicalcountermeasures.gov/RequestMeeting.aspx.

During the BioShield Stakeholders Workshop, HHS Secretary Michael O. Leavitt announced that HHS would develop a Web based system “through which those in industry and the research and development community can reach the people they need in the federal government, whether they're looking at a basic level of research or are focused on end-stage development.” In fulfillment of this promise, HHS has developed MedicalCountermeasures.gov.

MedicalCountermeasures.gov enables external stakeholders to request a meeting with federal representatives from participating PHEMCE agencies regarding medical countermeasures they are developing for use in response to a public health emergency. The information will then be routed to personnel within the relevant PHEMCE agencies, which currently include: The National Institutes of Health (NIH), the Office of the Biomedical Advanced Research and Development Authority (BARDA), the Food and Drug Administration (FDA), and the Department of Veterans Affairs (VA). MedicalCountermeasures.gov also provides information on upcoming and past conferences; procurements and grants; regulatory information; and strategic plans from throughout the PHEMCE agencies.

FOR FURTHER INFORMATION CONTACT: Elizabeth Jarrett, M.A., Office of the Biomedical Advanced Research and Development, Office of the Assistant Secretary for Preparedness and Response, Department of Health and Human Services, 330 Independence Ave., SW., Room G640, Washington, DC 20201; phone: 202-260-1200; e-mail address: BARDA@hhs.gov.

Dated: December 9, 2008.
W. Craig Vanderwagen,
Assistant Secretary for Preparedness and Response, Department of Health and Human Services.

[FR Doc. E8-30150 Filed 12-18-08; 8:45 am]

BILLING CODE 4150-37-P